DEPARTMENT OF TRANSPORTATION

Surface Transportation Board

[STB Docket No. AB-1066X]

Central Illinois Railroad Company—Discontinuance of Service Exemption—in Peoria County, IL

On September 12, 2005, Central Illinois Railroad Company (CIRY) filed with the Surface Transportation Board a petition for exemption under 49 U.S.C. 10502 for exemption from 49 U.S.C. 10903-10905 to discontinue service over a segment of a rail line owned by the City of Peoria and the Village of Peoria Heights, IL. The segment extends between the north line of Candletree Drive at approximately milepost 8.50 in Peoria, IL, and the north line of Jefferson Street at approximately milepost 2.21 in Peoria, IL, a distance of 6.29 miles in Peoria County, IL.

The line does not contain federally granted rights-of-way. Any documentation in the railroad's possession will be made available promptly to those requesting it.

The interests of railroad employees will be protected by imposition of conditions to approval of discontinuance imposed in Oregon Short Line R. Co.—Abandonment—Goshen, 360 I.C.C. 91 (1979).

By issuance of this notice, the Board is instituting an exemption proceeding pursuant to 49 U.S.C. 10502(b). A final decision will be issued by December 30, 2005.

As indicated, CIRY seeks exemption from the offer of financial assistance (OFA) provisions of 49 U.S.C. 10904 and the public use provisions of 49 U.S.C. 10905, if required. Any filings related to these requests will be considered in the decision on the merits. Any OFA under 49 CFR 1152.27(b)(2), if appropriate, will be due no later than 10 days after service of a decision granting the petition for exemption.¹ Each OFA must be accompanied by a $1,200 filing fee. See 49 CFR 1002.2(f)(25).

All filings in response to this notice must refer to STB Docket No. AB-1066X and must be sent to: (1) Surface Transportation Board, 1925 K Street, NW., Washington, DC 20423-0001; and (2) Thomas F. McFarland, 208 South LaSalle Street, Suite 1890, Chicago, IL 60604-1112. Replies to the petition are due on or before October 20, 2005.

Persons seeking further information concerning abandonment procedures may contact the Board's Office of Public Services at (202) 565-1592 or refer to the full abandonment or discontinuance regulations at 49 CFR part 1152. Questions concerning environmental issues may be directed to the Board's Section of Environmental Analysis (SEA) at (202) 565-1539. [Assistance for the hearing impaired is available though the Federal Information Relay Service (FIRS) at 1-800-877-8339.]

SEA has determined that this action is exempt from environmental reporting requirements under 49 CFR 1105.6(c)(2) and from historic reporting requirements under 49 CFR 1105.8(b)(3). Consequently, SEA concludes that this action does not require the preparation of an Environmental Assessment.

Board decisions and notices are available on our Web site at http://www.stb.dot.gov.

¹ On September 12, 2005, Pioneer Industrial Railway Company filed a notice of intent to file an OFA in this proceeding, to which CIRY filed a motion to reject. These filings will also be considered in the decision on the merits.

Decided: September 27, 2005.
By the Board, David M. Konschnik, Director, Office of Proceedings.
Vernon A. Williams,
Secretary.

[FR Doc. 05-19621 Filed 9-29-05; 8:45 am]

BILLING CODE 4915-01-P